DEPARTMENT OF THE INTERIOR

National Park Service

Great Sand Dunes National Park Advisory Council Meeting

AGENCY: National Park Service, DOI.

ACTION: Announcement of meeting.

SUMMARY: Great Sand Dunes National Monument and Preserve announces a meeting of the Great Sand Dunes National Park Advisory Council, which was established to provide guidance to the Secretary on long-term planning for Great Sand Dunes National Monument and Preserve.

DATES: The meeting date is:

1. September 9, 2004, 1 p.m.-8 p.m., Crestone, Colorado.

ADDRESSES: The meeting location is:

1. Crestone, Colorado—Colorado College Conference Center at the Baca, Crestone, CO 81131.

FOR FURTHER INFORMATION CONTACT: Steve Chaney, 719-378-6312.

SUPPLEMENTARY INFORMATION: The Great Sand Dunes National Park Advisory Council will discuss public comments on conceptual alternatives under consideration in the park's General Management Plan process, will advise the park about development of additional alternatives and will discuss the role of the council in future public meetings. The public will have an opportunity to comment from 6:30 to 7:30 p.m. The Colorado College Conference Center at the Baca can be reached from U.S. Highway 285 by taking County Road T and turning onto Colorado College Road. The facility has no street address.

John Crowley,
Acting Regional Director.

[FR Doc. 04-19086 Filed 8-19-04; 8:45 am]

BILLING CODE 4312-CL-P